SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 4, 2007.

ADDRESSES: Send all comments regarding whether this information collection is necessary for the proper performance of the function of the agency, whether the burden estimates are accurate, and if there are ways to minimize the estimated burden and enhance the quality of the collection, to Janet Tasker, Deputy Associate Administrator, Office of Capital Access, Small Business Administration, 409 3rd Street SW., 8th Floor, Washington, DC 20416

FOR FURTHER INFORMATION CONTACT: Janet Tasker, Tasker, Office of Capitol Access, 202-205-6657, janet.tasker@sba.gov. Curtis B. Rich, Management Analyst, 202-205-7030, curtis.rich@sba.gov.

SUPPLEMENTARY INFORMATION:

Title: “Office of Capital Access Online Survey.”

Description of Respondents: Finance Lenders, International Finance Lenders, 7(a) Lenders and CDC's in the 504 program, Small Business Investment Companies, Surety Bond Guarantee Companies.

Form No: N/A.

Annual Responses: 23,396.

Annual Burden: 1,204.

Jacqueline White,
Chief, Administrative Information Branch.

[FR Doc. E7-6247 Filed 4-3-07; 8:45 am]

BILLING CODE 8025-01-P